ENVIRONMENTAL PROTECTION AGENCY

[FRL-7399-7]

Agency Information Collection Activities: Proposed Collection; Comment Request; Approval of State Coastal Nonpoint Pollution Control Programs

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): Approval of State Coastal Nonpoint Pollution Control Programs, EPA ICR Number 1569.05, OMB Control Number 2040-0153, expiring on April 30, 2003. Before submitting the ICR to OMB for review and approval, EPA is soliciting comments on specific aspects of the proposed information collection as described below.

DATES: Comments must be submitted on or before November 25, 2002.

ADDRESSES: Comments should be sent to, and copies of the ICR may be obtained without charge from, the Nonpoint Source Control Branch, Assessment and Watershed Protection Division (4503-T), U.S. Environmental Protection Agency, 1200 Pennsylvania Avenue, NW., Washington, DC 20460.

FOR FURTHER INFORMATION CONTACT: Stacie Craddock at EPA by phone at (202) 566-1204, by fax at (202) 566-1545, by e-mail at craddock.stacie@epa.gov, or download a copy of the ICR off the Internet at http://www.epa.gov/icr and refer to EPA ICR No. 1569.05.

SUPPLEMENTARY INFORMATION: Affected entities: Entities potentially affected by this action are 18 coastal States and 3 Territories with conditionally approved Coastal Nonpoint Pollution Control Programs.

Title: Approval of Coastal Nonpoint Pollution Control Programs, (OMB Control No. 2040-0153; EPA ICR No. 1569.05) expiring April 30, 2003.

Abstract: Under the provisions of national Program Development and Approval Guidance implementing section 6217 of the Coastal Zone Act Reauthorization Amendments of 1990 (CZARA) which was jointly developed and published by EPA and the National Oceanic and Atmospheric Administration (NOAA), 26 coastal States and 5 coastal Territories with Federally approved Coastal Zone Management Programs have developed and submitted to EPA and NOAA Coastal Nonpoint Pollution Programs. EPA and NOAA have approved 8 States and 2 Territories, and conditionally approved 18 States and 3 Territories. The conditional approvals will require States and Territories to submit additional information in order to obtain final program approval. Recent administrative changes mutually agreed to by States, Territories, EPA and NOAA are expected to expedite the final approval process. CZARA section 6217 requires States and Territories to obtain final approval of their Coastal Nonpoint Pollution Programs in order to retain their full share of funding available to them under section 319 of the Clean Water Act and section 306 of the Coastal Zone Management Act. An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual public reporting and recordkeeping burden for this collection of information is estimated to average 125 hours per response. Burden means the total time, effort, or financial resources expended by persons to generate, maintain, retain, or disclose or provide information to or for a Federal agency. This includes the time needed to review instructions, develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose information.

Respondents/Affected Entities: 18 States and 3 Territories.

Estimated Number of Respondents: 21.

Frequency of Response: Once.

Estimated Total Annual Hour Burden: 2,625.

Estimated Total Annualized Cost Burden: $91,875.

Robert H. Wayland III,
Director, Office of Wetlands, Oceans, and Watersheds.

[FR Doc. 02-27236 Filed 10-24-02; 8:45 am]

BILLING CODE 6560-50-P